DEPARTMENT OF COMMERCE

National Oceanic and Atmospheric Administration

RIN 0648-XT80

Fisheries of the South Atlantic, Gulf of Mexico, and Caribbean; Southeast Data, Assessment, and Review (SEDAR) Steering Committee; Public Meeting

AGENCY: National Marine Fisheries Service (NMFS), National Oceanic and Atmospheric Administration (NOAA), Commerce.

ACTION: Notice of SEDAR Steering Committee Meeting.

SUMMARY: The SEDAR Steering Committee will meet via conference call to discuss timing of assessment projects for 2010, progress on procedural modifications, and the need for conflict of interest policies. See SUPPLEMENTARY INFORMATION.

DATES: The SEDAR Steering Committee will meet on Monday, February 8, 2010, from 9:30 a.m. to 11:30 a.m., EST.

ADDRESSES: The meeting will be held via conference call. Listening stations are available at the following locations: South Atlantic Fishery Management Council, 4055 Faber Place Drive #201, North Charleston, SC 29405; Gulf of Mexico Fishery Management Council, 2203 North Lois Avenue, Suite 1100, Tampa, FL 33607; and Caribbean Fishery Management Council, 268 Munoz Rivera Ave., Suite 1108, San Juan, Puerto Rico 00918.

FOR FURTHER INFORMATION CONTACT: John Carmichael, Science and Statistics Program Manager, SAFMC, 4055 Faber Place, Suite 201, North Charleston, SC 29405; telephone: (843) 571-4366 or toll free: (866) SAFMC-10; fax: (843) 769-4520.

SUPPLEMENTARY INFORMATION: The South Atlantic, Gulf of Mexico, and Caribbean Fishery Management Councils; in conjunction with NOAA Fisheries, the Atlantic States Marine Fisheries Commission, and the Gulf States Marine Fisheries Commission; implemented the Southeast Data, Assessment and Review (SEDAR) process, a multi-step method for determining the status of fish stocks. The SEDAR Steering Committee provides oversight of the SEDAR process, establishes assessment priorities, and provides coordination of assessment and management activities.

During this conference call the Steering Committee will discuss assessment scheduling for 2010, including changes in the completion dates for updates, the addition of a Goliath Grouper benchmark assessment, and additional Gulf of Mexico tilefish stocks to be assessed during SEDAR 22. The Committee will receive updates on procedural workshops addressing uncertainty and historic catch estimates. The Committee will discuss stocks to update for the Gulf of Mexico in 2011, timing of a future South Atlantic tilefish assessment, and the type of assessment to be conducted next for Gulf red snapper. The Committee will discuss progress on procedural changes implemented in 2010 and receive feedback from the Councils on the proposed changes. The Committee will discuss revised guidelines addressing conflict of interest policies for scientific reviewers and consider whether SEDAR policy changes are required.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to the South Atlantic Fishery Management Council office at the address listed above at least 5 business days prior to the meeting.

Dated: January 12, 2010.
Tracey L. Thompson,
Acting Director, Office of Sustainable Fisheries, National Marine Fisheries Service.

[FR Doc. 2010-648 Filed 1-14-10; 8:45 am]

BILLING CODE 3510-22-S